DEPARTMENT OF AGRICULTURE

Federal Crop Insurance Corporation

7 CFR Part 457

RIN 0563-AB92

Common Crop Insurance Regulations; Apple Crop Insurance Provisions

Correction

In rule document 04-19596 beginning on page 52583 in the issue of Friday, August 27, 2004, make the following correction:

On page 52591, in the first column, amendatory instruction 2 should read as follows:

PART 457—COMMON CROP INSURANCE REGULATIONS

2. Amend §457.158 by revising the first sentence of the introductory text and sections 1 through 14 to read as follows:

[FR Doc. C4-19596 Filed 8-31-04; 8:45 am]

BILLING CODE 1505-01-D

DEPARTMENT OF JUSTICE

Notice of Lodging of Consent Decree Pursuant to the Comprehensive Environmental Response, Compensation and Liability Act

Correction

In notice document 04-19486 beginning on page 52310 in the issue of Wednesday, August 25, 2004, make the following corrections:

1. On page 52311, in the first column, in the second full paragraph, in the 12th line, “o4-C-5172” should read “04-C-5172”.

2. On the same page, in the same column, in the third full paragraph, in the sixth line, “(321-252-1994)” should read “(312-353-1994)”.

3. On the same page, in the same column, in the same paragraph, in the 13th and 14th lines, “Department of justice” should read “Department of Justice”.

4. On the same page, in the second column, in the fisrt line, “254 cents” should read “25 cents”.

[FR Doc. C4-19486 Filed 8-31-04; 8:45 am]

BILLING CODE 1505-01-D